DEPARTMENT OF DEFENSE

Office of the Secretary

[Docket ID: DoD-2015-OS-0004]

Submission for OMB Review; Comment Request

AGENCY: Office of the Under Secretary of Defense for Personnel and Readiness, DoD.

ACTION: 30-Day information collection notice.

SUMMARY: The Department of Defense has submitted to OMB for clearance the following proposal for collection of information under the provisions of the Paperwork Reduction Act.

DATES: Consideration will be given to all comments received by January 18, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION:

Title; Associated Form; and OMB Number: Mortuary Affairs Forms; Statement of Disposition of Military Remains, DD Form 3045; Disposition of Remains Election Statement Initial Notification of Identified Partial Remains, DD Form 3046; Disposition of Remains Election Statement Notification of Subsequently Identified Partial Remains, DD Form 3047; Disposition of Organs Retained for Extended Examination, DD Form 3048; Advanced Restorative Art of Remains, DD Form 3049; Election for Air Transportation of Remains of Casualties Dying in a Theater of Combat Operations, DD Form 3050; OMB Control Number 0704-XXXX.

Type of Request: New collection.

Number of Respondents: 900.

Responses per Respondent: 1.33.

Annual Responses: 1,200.

Average Burden per Response: 15 minutes.

Annual Burden Hours: 300.

Needs and Uses: The information collection requirement is necessary to obtain the selection (as applicable) of the Person Authorized to Direct Disposition (PADD) or the Person Authorized to Effect Disposition (PAED) of the remains of the decedent. These forms were directed by the Secretary of Defense for transparency and standardization of the mortuary procedures as part of the Final Report of the Dover Port Mortuary Independent Review Subcommittee Implementation Plan and 180-day study. The applicable form(s) is included in the individual case file of the decedent. Currently, there is a lack of standardization across the Military Services as each Service currently utilizes different forms for these elections and they do not all capture the same information even on similar forms. Standardizing the information collected is essential in maintaining the transparency and integrity of the mortuary affairs process.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Frederick Licari.

Requests for copies of the information collection proposal should be sent to Mr. Licari at whs.mc-alex.esd.mbx.dd-dod-information-collections@mail.mil.

Dated: December 14, 2018.
Shelly E. Finke,
Alternate OSD Federal Register, Liaison Officer, Department of Defense.

[FR Doc. 2018-27446 Filed 12-18-18; 8:45 am]

BILLING CODE 5001-06-P